COMMITTEE FOR THE IMPLEMENTATION OF TEXTILE AGREEMENTS

Request for Public Comment on a Commercial Availability Request Under the U.S.-Chile Free Trade Agreement

AGENCY: The Committee for the Implementation of Textile Agreements (CITA).

ACTION: Request for Public Comment concerning a request for modification of the U.S.-Chile Free Trade Agreement rules of origin for certain woven fabrics of artificial filament yarn.

SUMMARY: On June 11, 2015, the Government of the United States received a request from the Government of Chile to modify the U.S.-Chile Free Trade Agreement's (FTA) rules of origin for woven fabrics of artificial filament yarn in subheadings 5408.22-5408.23 of the Harmonized Tariff Schedule of the United States (HTSUS) to allow the use of non-U.S. or Chilean filament yarn of viscose rayon classified in subheadings 5403.10, 5403.31, 5403.32, and 5403.41 of the HTSUS. As provided in Article 3.20.3-3.20.5 of the U.S.-Chile FTA, the Parties shall consult to consider whether the rules of origin applicable to particular textile and apparel goods should be revised to address issues of availability of supply of fibers, yarns or fabrics in the territory of the Parties. The United States-Chile Free Trade Agreement Implementation Act provides the President with the authority to proclaim a modification to the U.S.-Chile FTA rules of origin necessary to implement an agreement with Chile on the modification. CITA hereby solicits public comments on this request, in particular with regard to whether filament yarn of viscose rayon classified in subheadings 5403.10, 5403.31, 5403.32, and 5403.41 can be supplied by the domestic industry in commercial quantities in a timely manner. Comments must be submitted by August 24, 2015 to the Chairman, Committee for the Implementation of Textile Agreements, Room 30003, United States Department of Commerce, Washington, DC 20230.

FOR FURTHER INFORMATION CONTACT: Richard Stetson, International Trade Specialist, Office of Textiles and Apparel, U.S. Department of Commerce, (202) 482-2582.

Authority: Executive Order 11651 of March 3, 1972, as amended; Section 202 of the U.S.-Chile Free Trade Agreement Implementation Act (19 U.S.C. 3805).

Background

Under the U.S.-Chile Free Trade Agreement (FTA), each Party is required to eliminate customs duties on textile and apparel goods that qualify as originating goods under the FTA rules of origin, which are set out in Annex 4.1 to the FTA. Article 3.20 of the FTA provides that the rules of origin for textile and apparel products may be amended through a subsequent agreement between the two Parties under certain circumstances. In consultations regarding such a change, the two Parties are to consider issues of availability of fibers, yarns, or fabrics in the free trade area and whether domestic producers are capable of supplying commercial quantities of the good in a timely manner. Section 202 of the U.S.-Chile FTA Implementation Act provides the President with the authority to proclaim modifications to the FTA rules of origin as are necessary to implement an agreement with Chile on such a modification.

On June 11, 2015, the Government of the United States received a request from the Government of Chile to modify the U.S.-Chile Free Trade Agreement's (FTA) rules of origin for woven fabrics of artificial filament yarn in subheadings 5408.22-5408.23 of the Harmonized Tariff Schedule of the United States (HTSUS) to allow the use of non-U.S. or Chilean filament yarn of viscose rayon classified in subheadings 5403.10, 5403.31, 5403.32, and 5403.41 of the HTSUS. As provided in Article 3.20.3-3.20.5 of the U.S.-Chile FTA, the Parties shall consult to consider whether the rules of origin applicable to particular textile and apparel goods should be revised to address issues of availability of supply of fibers, yarns or fabrics in the territory of the Parties. The United States-Chile Free Trade Agreement Implementation Act provides the President with the authority to proclaim a modification to the U.S.-Chile FTA rules of origin necessary to implement an agreement with Chile on the modification. CITA hereby solicits public comments on this request, in particular with regard to whether filament yarn of viscose rayon classified in subheadings 5403.10, 5403.31, 5403.32, and 5403.41 can be supplied by the domestic industry in commercial quantities in a timely manner. CITA hereby solicits public comments on this request, in particular with regard to whether filament yarn of viscose rayon classified in subheadings 5403.10, 5403.31, 5403.32, and 5403.41 can be supplied by the domestic industry in commercial quantities in a timely manner. Comments must be received no later than August 24, 2015. Interested persons are invited to submit six copies of such comments or information to the Chairman, Committee for the Implementation of Textile Agreements, Room 30003, U.S. Department of Commerce, 14th and Constitution Avenue NW., Washington, DC 20230.

If a comment alleges that filament yarn of viscose rayon can be supplied by the domestic industry in commercial quantities in a timely manner, CITA will closely review any supporting documentation, such as a signed statement by a manufacturer stating that it produces the filament yarn of viscose rayon that is the subject of the request, including the quantities that can be supplied and the time necessary to fill an order, as well as any relevant information regarding past production.

CITA will protect any business confidential information that is marked ‘business confidential’ from disclosure to the full extent permitted by law. CITA will make available to the public non-confidential versions of the request and non-confidential versions of any public comments received with respect to a request in Room 30003 in the Herbert Hoover Building, 14th and Constitution Avenue NW., Washington, DC 20230. Persons submitting comments on a request are encouraged to include a non-confidential version and a non-confidential summary.

Joshua Teitelbaum,
Chairman, Committee for the Implementation of Textile Agreements.

[FR Doc. 2015-18207 Filed 7-23-15; 8:45 am]

BILLING CODE 3510-DR-P